DEPARTMENT OF AGRICULTURE

Forest Service

Black Hills National Forest, Bearlodge Ranger District, Wyoming, Dean Project Area Proposal and Analysis

AGENCY: Forest Service, USDA.

ACTION: Notice of intent to prepare an environmental impact statement.

SUMMARY: The Forest Service will prepare an environmental impact statement on a proposal to implement multiple resource management actions within the Dean Area as directed by the Black Hills National Forest Land and Resource Management Plan. The Dean Project Area covers about 12,468 acres of National Forest System land and about 2,256 acres of interspersed private land within the Redwater Creek watershed directly north of Sundance, Wyoming. Proposed actions would modify the structure of forest stands across the planning area to reduce fuel loads, potential for uncharacteristically intense wildfire behavior, and risk of insect outbreaks; provide for diverse wildlife habitat and restore hardwoods; and provide a mix of motorized and non-motorized use opportunities.

DATES: Comments concerning the scope of the analysis must be received by December 22, 2004. The draft environmental impact statement is expected to be available for public review by March 2005 and the final environmental impact statement is expected to be completed by June 2005.

ADDRESSES: Send written comments to Steve Kozel, District Ranger, Black Hills National Forest, Bearlodge Ranger District, 121 S. 21st Street, Sundance, Wyoming 82729. Telephone Number: (307) 283-1361. E-mail: comments-rocky-mountain-black-hills-bearlodge@fs.fed.us with “Dean Project” as subject.

FOR FURTHER INFORMATION CONTACT: Janis Bouma, Project Coordinator, Black Hills National Forest, Bearlodge Ranger District, at above address, phone (307) 283-1361.

SUPPLEMENTARY INFORMATION: The actions are proposed in direct response to management direction provided by the Black Hills National Forest Land and Resource Management Plan (Forest Plan). The site-specific actions are based on Forest Plan Standards and Guidelines to promote existing resource conditions in the Dean Project Area toward meeting Forest Plan Goals and Objectives. The project area lies in the Bear Lodge Mountains in the Black Hills National Forest, directly north of Sundance, Wyoming. Anticipated issues include: Fire and fuels hazard in the project area; support and opposition to vegetation treatment such as timber harvest; impacts of vegetation treatment and multiple forest uses on wildlife habitat; motorized and non-motorized recreation; and travel management.

Purpose of and Need for Action

There is a need to reduce the potential for uncharacteristically intense wildlife behavior and insect infestation, provide diverse wildlife habitat, and manage motorized recreation in the Dean Project Area. This project will address Forest Plan Goal 2 (providing for biologically diverse ecosystems) and Goal 3 (providing for sustained commodity uses) consistent with Forest Plan Standards and Guidelines.

Proposed Action

Actions proposed in the Dean Project Area include:

• Modifying stand structure across the planning area to reduce potential for uncharacteristically intense wildfire behavior and benefit wildlife. This action includes thinning the forest, removing conifers from stands of hardwoods such as aspen, bur oak, and birch, and expanding and/or creating meadows.

• Reducing fuel loads by decreasing the volume and arrangement of both existing fuels and those resulting from other vegetation treatment activities. Treatment could include lopping, chipping, crushing, piling and burning, and prescribed burning on up to 3,494 acres.

• Reducing the density of pine stands on up to 5,730 acres to decrease the potential for spreading crown fires, increase tree growth and vigor, and lessen the risk of insect infestation and disease. This may be done by using commercial timber harvest to thin out merchantable trees and using other methods to thin small, unmerchantable trees. These actions would provide wood fiber to local industry and would require construction of up to 10 miles of new specified roads.

• Modifying the Forest Plan through a non-significant Amendment to change Management Area (MA) designation in part of the project area to better reflect actual conditions. The entire project area is currently in MA 5.4 (Big Game Winter Range Emphasis). The lower elevations and south aspects on the east side of the project area currently provide appropriate and important winter range for deer and elk and are utilized as such. However, the remainder of the project area is heavily used by deer and elk only during the spring, summer, and fall, including calving and fawning periods. Therefore, the Forest proposes to change the Management Area designation in a portion of the project area to MA 5.6 (Forest Products, Recreation, and Big Game Emphasis) to reflect the actual utilization and better manage the project area to benefit a variety of wildlife, including big game species, and better reflect existing non-motorized recreation opportunities.

• Providing a mix of motorized and non-motorized opportunities and protecting wildlife in the area by closing the project area to off-road motorized travel and restricting ATV use to designated routes. Main system routes currently open to motorized travel would remain open. Approximately 16.1 miles of roads would also be decommissioned.

Responsible Official

Steve Kozel, District Ranger, Black Hills National Forest, Bearlodge Ranger District, 121 S. 21st Street, Sundance, Wyoming 82729.

Nature of Decision To Be Made

The decision to be made is whether or not to implement the proposed action or alternatives at this time.

Scoping Process

Comments and input regarding the proposal will be requested via direct mailing from the public, other groups and agencies during the 30-day (plus) public comment period in November and December 2004. Also, response to the draft EIS will be sought from the interested public in March 2005.

Comment Requested

This notice of intent initiates the scoping process which guides the development of the environmental impact statement. It is our desire to involve interested parties and especially adjacent landowners in identifying the issues related to proposed activities. Comments will assist the planning team identify key issues and opportunities used to develop project alternatives and mitigation measures.

Early Notice of Importance of Public Participation in Subsequent Environmental Review

A draft environmental impact statement will be prepared for comment. The comment period on the draft environmental impact statement will last 45 days (beginning around March 1, 2005) from the date the Environmental Protection Agency publishes the Notice of Availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1909.15, Section 21)

Dated: November 17, 2004.
Brad Exton,
Acting Forest Supervisor.

[FR Doc. 04-25972 Filed 11-23-04; 8:45 am]

BILLING CODE 3410-11-M